NATIONAL SCIENCE BOARD

Sunshine Act Meeting

agency holding meeting: National Science Board, Subcommittee on Science and Engineering Indicators.

date and time: May 17, 2005, 10 a.m. (ET).

place: National Science Foundation, 4201 Wilson Boulevard, Arlington, VA 22230, Public Meeting Room 130. www.nsf.gov/nsb.

status: This meeting will be open to the public.

matters to be considered:

Tuesday, May 17, 2005—Open Session

Open Session (10 a.m. to 11 a.m.)

1. Discussion of the topic for the Companion Piece to Science and Engineering Indicators 2006.

2. Discussion of the draft Science and Technology: Public Attitudes and Understanding chapter of Science and Engineering Indicators 2006.

For information contact: Dr. Michael P. Crosby, Executive Officer and NSB Office Director, (703) 292-7000. www.nsf.gov/nsb.

Michael P. Crosby,
Executive Officer and NSB Office Director.

[FR Doc. 05-8971 Filed 5-2-05; 12:45 pm]

BILLING CODE 7555-01-M